GENERAL SERVICES ADMINISTRATION

[Notice MC-2011-1; Docket No. 2011-0006; Sequence 5]

The President's Management Advisory Board (PMAB); Notification of Upcoming Public Advisory Meeting

AGENCY: Office of Executive Councils, U.S. General Services Administration (GSA).

ACTION: Notice.

SUMMARY: The President's Management Advisory Board, a Federal Advisory Committee established in accordance with the Federal Advisory Committee Act (FACA), 5 U.S.C., App., and Executive Order 13538, will hold a public meeting on March 11, 2011.

DATES: Effective date: February 23, 2011.

Meeting date: The meeting will be held on Friday, March 11, 2011, beginning at 10 a.m. eastern time, ending no later than 12 p.m.

ADDRESSES: The PMAB will convene its first meeting in the Eisenhower Executive Office Building, 1650 Pennsylvania Avenue, NW., Washington, DC. Due to security, there will be no public admittance to the Eisenhower Building to attend the meeting. However, public access to the meeting will be available via live webcast at http://www.whitehouse.gov.

FOR FURTHER INFORMATION CONTACT: Ms. Jill Schiller, Alternate Designated Federal Officer, President's Management Advisory Board, Office of Executive Councils, General Services Administration, 1776 G Street, NW., Washington, DC 20220, at jill.schiller@cxo.gov.

SUPPLEMENTARY INFORMATION: Background: The purpose of this meeting is to discuss general organizational matters of the PMAB and begin discussing the issues impacting the management techniques of the Nation's government. The PMAB was established to provide independent advice and recommendations to the President and the President's Management Council on a wide range of issues related to the development of effective strategies for the implementation of best business practices to improve Federal Government management and operation, with a particular focus on productivity, the application of technology, and customer service.

Availability of Materials for the Meeting: Please see the PMAB Web site for any available materials, including the draft agenda for this meeting at http://www.whitehouse.gov. Questions/issues of particular interest to PMAB will also be made available to the public on this Web site. The public should address any of these questions/issues when presenting written statements to PMAB.

Procedures for Providing Public Comments: In general, statements will be posted on the White House Web site (http://www.whitehouse.gov), and should include business or personal information such as names, addresses, email addresses, or telephone numbers. Non-electronic documents will be made available for public inspection and copying in PMAB offices at GSA, 1776 G Street, NW., Washington, DC 20220, on official business days between the hours of 10 a.m. and 5 p.m. eastern time. You can make an appointment to inspect statements by telephoning (202) 208-2664. All statements, including attachments and other supporting materials, received are part of the public record and subject to public disclosure. Any statements submitted in connection with the PMAB meeting will be made available to the public under the provisions of the Federal Advisory Committee Act.

The public is invited to submit written statements for this meeting to the Advisory Committee prior to the meeting until March 9, 2011, by either of the following methods:

Electronic Statements: Submit written statements to Jill Schiller, Alternate Designated Federal Officer at jill.schiller@cxo.gov; or

Paper Statements: Send paper statements in triplicate to Jill Schiller at President's Management Advisory Board, Office of Executive Councils, General Services Administration, 1776 G Street, NW., Washington, DC 20220.

Meeting Accommodations: Public access to the meeting will be available via live webcast only at http://www.whitehouse.gov.

Dated: February 16, 2011.
Robert Flaak,
Director, Office of Committee and Regulatory Management, General Services Administration.

[FR Doc. 2011-3954 Filed 2-22-11; 8:45 am]

BILLING CODE 6820-38-P